FEDERAL DEPOSIT INSURANCE CORPORATION

12 CFR Part 334

RIN 3064-AE29

Removal of FDIC Regulations Regarding Fair Credit Reporting Transferred to the Consumer Financial Protection Bureau

AGENCY: Federal Deposit Insurance Corporation.

ACTION: Final rule; correction.

SUMMARY: The Federal Deposit Insurance Corporation (“FDIC”) is correcting a Final Rule that appeared in the Federal Register on October 28, 2015, regarding removal of certain FDIC regulations regarding Fair Credit Reporting transferred to the Consumer Financial Protection Bureau in Title X of the Dodd-Frank Wall Street Reform and Consumer Protection Act.

DATES: The correction is effective August 25, 2016.

FOR FURTHER INFORMATION CONTACT: Richard M. Schwartz, Counsel, Legal Division, (202) 898-7424 or rischwartz@fdic.gov.

SUPPLEMENTARY INFORMATION: The Federal Deposit Insurance Corporation (“FDIC”) is correcting a Final Rule that appeared in the Federal Register on October 28, 2015 (80 FR 65913), regarding removal of certain FDIC regulations regarding Fair Credit Reporting transferred to the Consumer Financial Protection Bureau in Title X of the Dodd-Frank Wall Street Reform and Consumer Protection Act.¹ This publication removed and reserved Subparts C and E to 12 Code of Federal Regulations (CFR) Part 334, but mistakenly failed to remove and reserve the appendices that applied to those Subparts.

¹ Public Law 111-203, 124 Stat. 1376 (2010).

In FR Doc. 2015-27291, appearing on pages 65913 et seq. in the Federal Register of October 28, 2015, the following correction is made:

Authority and Issuance

For the reasons stated in the preamble, the Board of Directors of the Federal Deposit Insurance Corporation amends 12 CFR part 334 by making the following correcting amendments:

PART 334—FAIR CREDIT REPORTING

1. The authority citation for part 334 continues to read as follows:

Authority: 12 U.S.C. 1818, 1819 (Tenth), and 1831p-1; 15 U.S.C. 1681a, 1681b, 1681c, 1681m, 1681s, 1681s-2, 1681s-3, 1681t, 1681w, 6801 et seq., Pub. L. 108-159, 117 Stat. 1952.

Subpart C to Part 334 [Removed and Reserved]

2. Remove and reserve appendix C.

Subpart E to Part 334 [Removed and Reserved]

3. Remove and reserve appendix E.

By order of the Board of Directors.
Federal Deposit Insurance Corporation.
Robert E. Feldman,
Executive Secretary.

[FR Doc. 2016-20328 Filed 8-24-16; 8:45 am]

BILLING CODE P